ARCHITECTURAL AND TRANSPORTATION BARRIERS COMPLIANCE BOARD

36 CFR Part 1191

RIN 3014-AA39

Americans With Disabilities Act (ADA) and Architectural Barriers Act (ABA) Accessibility Guidelines; Emergency Transportable Housing Units; Correction

AGENCY: Architectural and Transportation Barriers Compliance Board.

ACTION: Final rule; correction.

SUMMARY: The Architectural and Transportation Barriers Compliance Board (Access Board) is correcting a document that appeared in the Federal Register of May 7, 2014 (79 FR 26125). The document was a final rule that amended the Americans with Disabilities Act (ADA) and Architectural Barriers Act (ABA) Accessibility Guidelines to specifically address emergency transportable housing units provided to disaster survivors by entities subject to the ADA or ABA.

DATES: Effective September 26, 2014.

FOR FURTHER INFORMATION CONTACT: Lisa Fairhall, Access Board, 1331 F Street NW., Suite 1000, Washington, DC 20004-1111. Telephone: (202) 272-0046 (voice) or (202) 272-0064 (TTY). Email address: fairhall@access-board.gov.

SUPPLEMENTARY INFORMATION: In FR Doc. 2014-10162 appearing on page 26125 in the Federal Register of May 7, 2014, the following corrections are made:

Appendix B to Part 1191—Americans With Disabilities Act: Scoping [Corrected]

1. On page 26139, in the second column, the revision to redesignated section 233.3.5 is corrected to read as follows:

233.3.5 Alterations. Alterations shall comply with 233.3.5.

EXCEPTION: Where compliance with 809.2.1, 809.2.3, or 809.2.4 is technically infeasible, or where it is technically infeasible to provide an accessible route to a residential dwelling unit, the entity shall be permitted to alter or construct a comparable residential dwelling unit to comply with 809.2 provided that the minimum number of residential dwelling units required by 233.3.1.1 and 233.3.2.1, as applicable, is satisfied.

Appendix C to Part 1191—Architectural Barriers Act: Scoping [Corrected]

2. On page 26140, in the first column, adding a new instruction after amendment 3.p to read “In F233.2, revising the first, second, and third sentences;”

3. On page 26140, in the first column, in amendment 3.t, the instruction “Redesignating sections F233.3.2 F233.3.3.1, F233.3.3.2, F233.3.4, F233.4.2, F233.4.3, F233.4.4, F233.4.4.1, F233.4.4.2, and F233.4.5 as F233.3.3, F233.3.4, F233.3.4.1, F233.3.4.2, F233.3.5, F233.4.3, F233.4.4, F233.4.5, F233.4.5.1, F233.4.5.2, and F233.4.6, respectively” is corrected to read “Redesignating sections F233.3.2, F233.3.3, F233.3.3.1, F233.3.3.2, F233.3.4, F233.4.1.2, F233.4.2, F233.4.3, F233.4.4, F233.4.4.1, F233.4.4.2, and F233.4.5 as F233.3.3, F233.3.4, F233.3.4.1, F233.3.4.2, F233.3.5, F233.4.2, F233.4.3, F233.4.4, F233.4.5, F233.4.5.1, F233.4.5.2, and F233.4.6, respectively.”

4. On page 26141, in the second column, first full paragraph, first line, replace “F223.3.4” with “F233.3.4”.

5. On p. 26142, in the second column, in amendment 4.f, the instruction “In 606.4, adding a sentence at the end of the section;” is corrected to read, “In 606.4, revising the heading to read “Faucets and water spray units”, and adding a sentence at the end of the section.”

David M. Capozzi,
Executive Director.

[FR Doc. 2014-22984 Filed 9-25-14; 8:45 am]

BILLING CODE 8150-01-P